DEPARTMENT OF VETERANS AFFAIRS

[OMB Control No. 2900-0009]

Agency Information Collection Activity Under OMB Review: Application for Vocational Rehabilitation for Veterans With Service-Connected Disabilities

AGENCY: Veterans Benefits Administration, Department of Veterans Affairs

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before May 22, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0009” in any correspondence.

FOR FURTHER INFORMATION CONTACT: Danny S. Green, (202) 421-1354 or email Danny.Green2@va.gov. Please refer to “OMB Control No. 2900-0009” in any correspondence.

SUPPLEMENTARY INFORMATION:

Authority: 44 U.S.C. 3501-21.

Title: Application for Vocational Rehabilitation for Veterans with Service-connected Disabilities (Chapter 31, Title 38 U.S.C.) (VA Form 28-1900)

OMB Control Number: 2900-0009.

Type of Review: Reinstatement with Change to a Previously Approved Collection.

Abstract: VA Form 28-1900 is completed by Veterans with a combined service-connected disability rating of 10 percent or more and Servicemembers awaiting discharge for such disability to apply for vocational rehabilitation benefits. VA provides services and assistance to Veterans with service-connected disabilities, who are determined entitled to such benefits, to obtain and maintain suitable employment. Vocational rehabilitation also provides services to support Veterans with service-connected disabilities to achieve maximum independence in their daily living activities if employment is not reasonably feasible. This form is necessary to facilitate claims processing by providing a consistent format for the certification statement.

An agency may not conduct or sponsor, and a person is not required to respond to a collection of information unless it displays a currently valid OMB control number. The Federal Register Notice with a 60-day comment period soliciting comments on this collection of information was published at 84 FR 4610 on February 15, 2019, page 4610.

Affected Public: Individuals or Households.

Estimated Annual Burden: 21,419 hours.

Estimated Average Burden per Respondent: 10 minutes.

Frequency of Response: One time.

Estimated Number of Respondents: 128,515.

By direction of the Secretary.
Danny S. Green,
Interim VA Clearance Officer, Office of Quality, Performance and Risk, Department of Veterans Affairs.

[FR Doc. 2019-07979 Filed 4-19-19; 8:45 am]

BILLING CODE 8320-01-P